DEPARTMENT OF THE TREASURY

Internal Revenue Service

26 CFR Part 26

[TD 8912]

RIN 1545-AX08

Generation-Skipping Transfer Issues; Correction

AGENCY: Internal Revenue Service (IRS), Treasury.

ACTION: Correction to final regulations.

SUMMARY: This document contains a correction to final regulations that were published in the Federal Register on Wednesday, December 20, 2000 (65 FR 79735) relating to the generation-skipping transfer (GST) tax imposed under chapter 13 of the Internal Revenue Code.

DATES: This correction is effective December 20, 2000.

FOR FURTHER INFORMATION CONTACT: James F. Hogan (202) 622-3090 (not a toll-free number).

SUPPLEMENTARY INFORMATION:

Background

The final regulations that are the subject of this correction are under section 2601 of the Internal Revenue Code.

Need for Correction

As published, the final regulations contain an error that may prove to be misleading and is in need of clarification.

Correction of Publication

Accordingly, the publication of the final regulations (TD 8912), that were the subject of FR Doc. 00-31757, is corrected as follows:

§ 26.2601-1 [Corrected]

On page 79740, column 2, § 26.2601-1, paragraph (b)(4)(i)(E), Example 9., line 6, the language “is to pass to the A's issue, per stirpes. Under” is corrected to read “is to pass to A's issue, per stirpes. Under”.

Cynthia E. Grigsby,
Chief, Regulations Unit, Office of Special Counsel (Modernization and Strategic Planning).

[FR Doc. 01-4292 Filed 2-21-01; 8:45 am]

BILLING CODE 4830-01-P